DEFENSE NUCLEAR FACILITIES SAFETY BOARD

10 CFR Part 1703

Proposed FOIA Fee Schedule Update

AGENCY: Defense Nuclear Facilities Safety Board.

ACTION: Notice of proposed rulemaking; correction.

SUMMARY: This document corrects the SUPPLEMENTARY INFORMATION to the Board's proposed FOIA Fee Schedule Update published in the Federal Register of June 1, 2012. The document contained incorrect dates and references.

FOR FURTHER INFORMATION CONTACT: Brian Grosner, General Manager, Defense Nuclear Facilities Safety Board, 625 Indiana Avenue NW., Suite 700, Washington, DC 20004-2901, (202) 694-7060.

Correction

In proposed rule FR Doc. 2012-13295, dated June 1, 2012 on page 32433 in the third column, the SUPPLEMENTARY INFORMATION section should read:

SUPPLEMENTARY INFORMATION: The FOIA requires each Federal agency covered by the Act to specify a schedule of fees applicable to processing of requests for agency records. 5 U.S.C. 552(a)(4)(A)(i). Pursuant to 10 CFR 1703.107(b)(6) of the Board's regulations, the Board's General Manager will update the FOIA Fee Schedule once every 12 months. Previous Fee Schedule Updates were published in the Federal Register and went into effect, most recently, on July 22, 2011, 76 FR 43819. The Board's proposed fee schedule is consistent with the guidance. The components of the proposed fees (hourly charges for search and review and charges for copies of requested documents) are based upon the Board's specific cost.

Dated: June 5, 2012.
Brian Grosner,
General Manager.

[FR Doc. 2012-13978 Filed 6-7-12; 8:45 am]

BILLING CODE 3670-01-P